DEPARTMENT OF ENERGY

Federal Energy Regulatory Commission

Combined Notice of Filings #1

Take notice that the Commission received the following electric corporate filings:

Docket Numbers: EC18-112-000.

Applicants: Dogwood Energy LLC.

Description: Application for Authorization Under Section 203 of the Federal Power Act and Request for Waivers, Confidential Treatment, Expedited Action, and Shortened Comment Period of Dogwood Energy LLC.

Filed Date: 6/25/18.

Accession Number: 20180625-5179.

Comments Due: 5 p.m. ET 7/16/18.

Take notice that the Commission received the following electric rate filings:

Docket Numbers: ER10-1790-016; ER10-2596-007; ER11-3325-005.

Applicants: BP Energy Company, Fowler Ridge II Wind Farm LLC, Whiting Clean Energy, Inc.

Description: Updated Market Analysis for Central Region of BP Energy Company, et al.

Filed Date: 6/26/18.

Accession Number: 20180626-5070.

Comments Due: 5 p.m. ET 8/27/18.

Docket Numbers: ER10-2507-017.

Applicants: Westar Energy, Inc.

Description: Notice of Non-Material Change in Status of Westar Energy, Inc.

Filed Date: 6/26/18.

Accession Number: 20180626-5032.

Comments Due: 5 p.m. ET 7/17/18.

Docket Numbers: ER14-153-008; ER14-154-008; ER10-3169-013; ER10-3143-020; ER16-517-003.

Applicants: Gibson City Energy Center, LLC, Grand Tower Energy Center, LLC, Michigan Power Limited Partnership, Sabine Cogen, LP, Shelby County Energy Center, LLC.

Description: Triennial Market-Based Rate Update Filing for the Central Region of the Rockland Sellers.

Filed Date: 6/25/18.

Accession Number: 20180625-5176.

Comments Due: 5 p.m. ET 8/24/18.

Docket Numbers: ER18-1841-000.

Applicants: Midcontinent Independent System Operator, Inc.

Description: § 205(d) Rate Filing: 2018-06-25_SA 2465 Rock Aetna Power-Northern States Power 1st Revised GIA (G621) to be effective6/11/2018.

Filed Date: 6/25/18.

Accession Number: 20180625-5174.

Comments Due: 5 p.m. ET 7/16/18.

Docket Numbers: ER18-1842-000.

Applicants: Arizona Public Service Company.

Description: Tariff Cancellation: Cancellation of Service Agreement Nos. 353 and 354 to be effective 8/25/2018.

Filed Date: 6/25/18.

Accession Number: 20180625-5159.

Comments Due: 5 p.m. ET 7/16/18.

Docket Numbers: ER18-1843-000.

Applicants: Midcontinent Independent System Operator, Inc.

Description: § 205(d) Rate Filing: 2018-06-25_Tariff revisions to address Up-to-TUC to be effective 8/25/2018.

Filed Date: 6/25/18.

Accession Number: 20180625-5160.

Comments Due: 5 p.m. ET 7/16/18.

Docket Numbers: ER18-1844-000.

Applicants: Southwest Power Pool, Inc.

Description: § 205(d) Rate Filing: 1893R7 Westar Energy, Inc. NITSA and NOA to be effective 9/1/2018.

Filed Date: 6/26/18.

Accession Number: 20180626-5002.

Comments Due: 5 p.m. ET 7/17/18.

Docket Numbers: ER18-1845-000.

Applicants: Southwest Power Pool, Inc.

Description: § 205(d) Rate Filing: 1894R7 Westar Energy, Inc. NITSA and NOA to be effective 9/1/2018.

Filed Date: 6/26/18.

Accession Number: 20180626-5003.

Comments Due: 5 p.m. ET 7/17/18.

Docket Numbers: ER18-1846-000.

Applicants: Southwest Power Pool, Inc.

Description: § 205(d) Rate Filing: 1895R7 Westar Energy, Inc. NITSA and NOA to be effective 9/1/2018.

Filed Date: 6/26/18.

Accession Number: 20180626-5004.

Comments Due: 5 p.m. ET 7/17/18.

Docket Numbers: ER18-1847-000.

Applicants: Southwest Power Pool, Inc.

Description: § 205(d) Rate Filing: 1897R7 Westar Energy, Inc. NITSA and NOA to be effective 9/1/2018.

Filed Date: 6/26/18.

Accession Number: 20180626-5021.

Comments Due: 5 p.m. ET 7/17/18.

Docket Numbers: ER18-1848-000.

Applicants: Southwest Power Pool, Inc.

Description: § 205(d) Rate Filing: 1978R7 Westar Energy, Inc. NITSA and NOA to be effective 9/1/2018.

Filed Date: 6/26/18.

Accession Number: 20180626-5024.

Comments Due: 5 p.m. ET 7/17/18.

Docket Numbers: ER18-1849-000.

Applicants: Southwest Power Pool, Inc.

Description: § 205(d) Rate Filing: 2045R7 Westar Energy, Inc. NITSA and NOA to be effective 9/1/2018.

Filed Date: 6/26/18.

Accession Number: 20180626-5025.

Comments Due: 5 p.m. ET 7/17/18.

Docket Numbers: ER18-1850-000.

Applicants: Midcontinent Independent System Operator, Inc.

Description: § 205(d) Rate Filing: 2018-06-26_Termination of SA 2431 Glacial Ridge Wind LLC-GRE GIA (G549) to be effective 8/19/2018.

Filed Date: 6/26/18.

Accession Number: 20180626-5026.

Comments Due: 5 p.m. ET 7/17/18.

Docket Numbers: ER18-1851-000.

Applicants: Southwest Power Pool, Inc.

Description: § 205(d) Rate Filing: 2066R7 Westar Energy, Inc. NITSA and NOA to be effective 9/1/2018.

Filed Date: 6/26/18.

Accession Number: 20180626-5027.

Comments Due: 5 p.m. ET 7/17/18.

Docket Numbers: ER18-1852-000.

Applicants: Southwest Power Pool, Inc.

Description: § 205(d) Rate Filing: 2491R6 Westar Energy, Inc. NITSA and NOA to be effective 9/1/2018.

Filed Date: 6/26/18.

Accession Number: 20180626-5029.

Comments Due: 5 p.m. ET 7/17/18.

Docket Numbers: ER18-1853-000.

Applicants: New York State Electric & Gas Corporation.

Description: § 205(d) Rate Filing: NYSEG-NYPA Attachment C—O&M Annual Update to be effective 9/1/2018.

Filed Date: 6/26/18.

Accession Number: 20180626-5038.

Comments Due: 5 p.m. ET 7/17/18.

Docket Numbers: ER18-1854-000.

Applicants: Southwest Power Pool, Inc.

Description: § 205(d) Rate Filing: Revisions to Attachment AE to Enhance Out-of-Merit Energy to be effective5/1/2019.

Filed Date: 6/26/18.

Accession Number: 20180626-5059.

Comments Due: 5 p.m. ET 7/17/18.

Docket Numbers: ER18-1855-000.

Applicants: Southwest Power Pool, Inc.

Description: § 205(d) Rate Filing: 2900R9 KMEA NITSA NOA to be effective 6/1/2018.

Filed Date: 6/26/18.

Accession Number: 20180626-5099.

Comments Due: 5 p.m. ET 7/17/18.

Docket Numbers: ER18-1856-000.

Applicants: Southwest Power Pool, Inc.

Description: § 205(d) Rate Filing: 2415R10 Kansas Municipal Energy Agency NITSA and NOA to be effective 6/1/2018.

Filed Date: 6/26/18.

Accession Number: 20180626-5100.

Comments Due: 5 p.m. ET 7/17/18.

Docket Numbers: ER18-1857-000.

Applicants: Southwest Power Pool, Inc.

Description: § 205(d) Rate Filing: 2562R6 Kansas Municipal Energy Agency NITSA and NOA to be effective 9/1/2018.

Filed Date: 6/26/18.

Accession Number: 20180626-5118.

Comments Due: 5 p.m. ET 7/17/18.

Docket Numbers: ER18-1858-000.

Applicants: Midcontinent Independent System Operator, Inc.

Description: § 205(d) Rate Filing: 2018-06-26_SA 3036 Turtle Creek-ITC Midwest 1st Rev GIA (J449) to be effective 6/12/2018.

Filed Date: 6/26/18

Accession Number: 20180626-5138.

Comments Due: 5 p.m. ET 7/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2018.
Nathaniel J. Davis, Sr.,
Deputy Secretary.

[FR Doc. 2018-14124 Filed 6-29-18; 8:45 am]

BILLING CODE 6717-01-P